DEPARTMENT OF AGRICULTURE

Natural Resources Conservation Service

7 CFR Part 652

RIN 0578-AA48

Technical Service Provider Assistance

AGENCY: Natural Resources Conservation Service, United States Department of Agriculture.

ACTION: Final rule; Correcting amendment.

SUMMARY: The Natural Resources Conservation Service (NRCS) published a final rule in the Federal Register of February 12, 2010, amending its regulations for technical service provider (TSP) provisions under the Food Security Act of 1985. This document correctly amends those provisions by expanding the definition Technical Service Provider Assistance, which contained an error in the omission of “Indian Tribe” in the definition of Technical Service Provider.

DATES: Effective Date: This amendment is effective on August 10, 2010.

FOR FURTHER INFORMATION CONTACT: Angel Figueroa, Team Leader, Technical Service Provider Team, Department of Agriculture, Natural Resources Conservation Service, 1400 Independence Avenue, SW., Room 5236 South Building, Washington, DC 20250; Telephone: (202) 720-6731; Fax: (202) 720-5334; or e-mail: angel.figueroa@wdc.usda.gov.

SUPPLEMENTARY INFORMATION: This document correctly amends the Natural Resources Conservation Service (NRCS) regulations for technical service provider (TSP) provisions the requirements. This amendment is necessary due to an error of omission in the agency's final rule published in the Federal Register of Friday, February 12, 2010 (75 FR 6839). In that document, on page 6846, in the third column, the Technical Service Provider definition reads “Technical service provider means an individual, entity, or public agency either * * *”. It should read “Technical service provider means an individual, entity, Indian Tribe, or public agency either * * *”

List of Subjects in 7 CFR Part 652

Natural resources, Soil conservation, Technical assistance, Technical service, Water resources.

For the reasons stated in the preamble, NRCS correctly amends part 652 of Title 7 of the CFR as set forth below:

PART 652—TECHNICAL SERVICE PROVIDER ASSISTANCE

1. The authority citation for part 652 continues to read as follows:

Authority: 16 U.S.C. 3842.

2. Section § 652.2 is amended by revising the introductory text of the definition of “Technical service provider” to read as follows:

Subpart A—General Provisions

§ 652.2 Definitions.

* * * * *

Technical service provider means an individual, entity, Indian Tribe, or public agency either:

* * * * *

Signed this 4th day of August 2010, in Washington, DC.
Teressa Davis,
Rulemaking Manager, Natural Resources Conservation Service.

[FR Doc. 2010-19623 Filed 8-9-10; 8:45 am]

BILLING CODE 3410-16-P